FEDERAL COMMUNICATIONS COMMISSION

Notice of Public Information Collection(s) Being Submitted to OMB for Review and Approval

February 10, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 29, 2000. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-XXXX.

Title: Public Notice—Medical Telemetry Equipment Operating in the 450-460 MHz Band.

Type of Review: New collection.

Respondents: Business or other for-profit entities.

Number of Respondents: 20.

Estimated Hours Per Response: 8.

Frequency of Response: Recordkeeping; One-time reporting requirement.

Estimated Total Annual Burden: 160 hours.

Total Annual Cost: None.

Needs and Uses: The Commission released a public notice on October 20, 1999 requesting that parties operating medical telemetry equipment in the 450-460 MHz Band assist the Commission by providing certain information on their operations. Our equipment authorization records show that the majority of medical telemetry equipment operating under Part 90 are authorized in the 460-470 MHz portion of the PLMRS bands, and that very little operates in the 450-460 MHz portion of the band. We are requesting that parties operating medical telemetry equipment in the 450-460 MHz band provide certain information on their operation to the Commission. This information could help prevent serious interference problems in the future.

Federal Communications Commission.
Magalie Roman Salas,
Secretary.

[FR Doc. 00-4536 Filed 2-25-00; 8:45 am]

BILLING CODE 6712-01-M